DEPARTMENT OF THE INTERIOR

Fish and Wildlife Service

Endangered and Threatened Species Permit Applications

AGENCY: Fish and Wildlife Service, Interior.

ACTION: Notice of receipt of applications.

SUMMARY: The following applicants have applied for scientific research permits to conduct certain activities with endangered species pursuant to section 10(a)(1)(A) of the Endangered Species Act of 1973, as amended.

DATES: To ensure consideration, written comments must be received on or before February 10, 2005.

ADDRESSES: Written comments should be submitted to the Chief, Endangered Species Division, Ecological Services, P.O. Box 1306, Room 4102, Albuquerque, New Mexico 87103. Documents and other information submitted with these applications are available for review, subject to the requirements of the Privacy Act and Freedom of Information Act. Documents will be available for public inspection, by appointment only, during normal business hours at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-093661

Applicant: Marvin Miller, Spring Branch, Texas. Applicant requests a new permit for research and recovery purposes to survey for and collect the following species within Texas: Helotes mold beetle (Batrisodes venyivi), Madla cave meshweaver (Cicurina madla), Bracken Bat Cave meshweaver (Cicurina venii), Government Canyon Bat Cave meshweaver (Cicurina vespera), Government Canyon Bat Cave spider (Neoleptoneta microps), ground beetle (Rhadine exilis), and ground beetle (Rhadine infernalis).

Permit No. TE-028605

Applicant: SWCA-Flagstaff, Flagstaff, Arizona. Applicant requests an amendment to an existing permit to allow salvage and holding of salvaged specimens of the following species within Arizona: black-footed ferret (Mustela nigripes), Hualapai Mexican vole (Microtus mexicanus hualpaiensis), lesser long-nosed bat (Leptonycteris curasoae yerbabuensis), bald eagle (Haliaeetus leucocephalus), cactus ferruginous pygmy-owl (Glaucidium brasilianum cactorum), California condor (Gymnogyps californianus), northern aplomado falcon (Falco femoralis septentrionalis), southwestern willow flycatcher (Empidonax traillii extimus), Yuma clapper rail (Rallus longirostris yumanensis), and Sonoran tiger salamander (Ambystoma tigrinum stebbinsi).

Permit No. TE-069320

Applicant: KBA EnviroScience, Lewisville, Texas. Applicant requests an amendment to an existing permit to allow presence/absence surveys for the following species within Texas: black-capped vireo (Vireo atricapillus), brown pelican (Pelecanus occidentalis), golden-cheeked warbler (Dendroica chrysoparia), interior least tern (Sterna antillarum), northern aplomado falcon (Falco femoralis septentrionalis), piping plover (Charadrius melodus), red-cockaded woodpecker (Picoides borealis), southwestern willow flycatcher (Empidonax traillii extimus), Houston toad (Bufo houstonensis), Clear Creek gambusia (Gambusia heterochir), fountain darter (Etheostoma fonticola), and San Marcos gambusia (Gambusia georgei).

Permit No. TE-045236

Applicant: SWCA-Albuquerque, Albuquerque, New Mexico. Applicant requests an amendment to an existing permit to allow surveys for and collection of Rio Grande silvery minnow (Hybognathus amarus) within New Mexico.

Permit No. TE-097324

Applicant: Hugo Magana, Albuquerque, New Mexico. Applicant requests a new permit for research and recovery purposes to survey for and collect Rio Grande silvery minnow (Hybognathus amarus) within New Mexico.

Permit No. TE-095289

Applicant: Jon Nelson, Phoenix, Arizona. Applicant requests a new permit for research and recovery purposes to allow presence/absence surveys and nest monitoring of cactus ferruginous pygmy-owls (Glaucidium brasilianum cactorum) and southwestern willow flycatchers (Empidonax traillii extimus) within Arizona.

Permit No. TE-094375

Applicant: Azimuth Forestry Services, Shelbyville, Texas. Applicant requests a new permit for research and recovery purposes to conduct presence/absence surveys for red-cockaded woodpeckers (Picoides borealis) within Texas. Applicant additionally requests authorization to survey for and collect voucher specimens of the following species within Texas: Navasota ladies'-tresses (Spiranthes parksii), Texas prairie dawn-flower (Hymenoxys texana), and Texas trailing phlox (Phlox nivalis ssp. texensis).

Authority: 16 U.S.C. 1531, et seq.

Dated: January 5, 2005.
Joy Nicholopoulos,
Acting Assistant Regional Director, Ecological Services, Region 2, Albuquerque, New Mexico.

[FR Doc. 05-481 Filed 1-10-05; 8:45 am]

BILLING CODE 4310-55-P